DEPARTMENT OF HEALTH AND HUMAN SERVICES

Centers for Disease Control And Prevention

[60Day-01-13]

Proposed Data Collections Submitted for Public Comment and Recommendations

In compliance with the requirement of Section 3506(c)(2)(A) of the Paperwork reduction Act of 1995, the Center for Disease Control and Prevention is providing opportunity for public comment on proposed data collection projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques for other forms of information technology. Send comments to Anne O'Connor, CDC Assistant Reports Clearance Officer, 1600 Clifton Road, MS-D24, Atlanta, GA 30333. Written comments should be received within 60 days of this notice.

Proposed Project

Tailoring NIOSH Messages to Individual Health Construal —NEW—National Institute for Occupational Safety and Health (NIOSH), Centers for Disease Control and Prevention (CDC). The mission of the the National Institute for Occupational Safety and Health is to promote safety and health at work for all people through research and prevention.

The overall goal of the current project is to examine the effectiveness of tailoring NIOSH web-based communications to the psychological characteristics of the individuals who receive the communications. Typically, NIOSH publications informing at-risk workers about health hazards and safety recommendations are distributed by mail using a printed format. However, the growing use of computers opens the door to a new format for distributing health and safety information to workers: communication of health information via the Web. Importantly, web-based communication makes it possible to tailor health information to particular users. Past research has demonstrated that health-related behavior may be construed positively by an individual, in terms of wellness, or negatively, in terms in illness. The current project tests the effectiveness of message tailoring on this dimension.

This project will examine the effectiveness of tailoring a web communication based on the NIOSH Alert “Preventing Needlestick Injuries in Health Care Settings” to the user's personal construal of this occupational safety issue in terms of wellness or illness. Over 8 million workers in the United States are employed in health care settings, and it is estimated that between 600,000-800,000 needlestick injuries occur on an annual basis in these settings, mostly involving nurses [Henry and Campbell 1995; EPINet 1999]. These injuries pose both physical and emotional threats to health care workers, as serious infections from bloodborne pathogens may result. Through the use of message tailoring, the proposed project aims to increase health care workers' compliance with the safety recommendation provided in the NIOSH Alert “Preventing Needlestick Injuries in Health Care Settings.”

In study 1, attitudinal predictors of needlestick injury prevention behaviors will be assessed for registered nurses who view this issue as a health maintenance issue versus an illness prevention issue. This data will be obtained from a sample of 500 registered nurses who will be asked to complete a mail survey assessing their attitudes and behaviors with regard to preventing needlestick injuries. In a second study, the NIOSH Alert “Preventing Needlestick Injuries in Health Care Settings” will be modified from the original printed brochure to a web-based format. Two formats of this web-based document will be created that are tailored to nurses who construe the issue of needlestick injuries either positively (in terms of wellness) or negatively (in terms of illness). The impact of tailoring the message format to the nurse's construal of the issue of needlestick injury will be examined in a laboratory setting where 300 participants will indicate whether they construe this issue in terms of maintaining wellness (positively) or in terms of illness prevention (negatively), and will then be randomly assigned to gain or loss frame web communications. The impact of the tailored messages on participants' attitudes and behavioral intentions with regard to needle safety will be assessed.

The results of this project should provide NIOSH with information about how to develop effective Web-based communication strategies. This should have the consequence of enhancing occupational safety and health attitudes and behaviors among at-risk workers. The total cost to respondents is $8000.

Respondents | No. of respondents | No. of responses/ respondent | Avg. burden per response | Total burden
Registered Nurses | 800 | 1 | 30/60 | 400

Dated: December 18, 2000.
Chuck Gollmar,
Deputy Associate Director for Policy, Planning and Evaluation Centers for Disease Control and Prevention, (CDC).

[FR Doc. 00-32758 Filed 12-21-00; 8:45 am]

BILLING CODE 4163-18-P